DEPARTMENT OF EDUCATION

34 CFR Part 75

[Docket ID ED-2025-OS-0679]

Proposed Priority and Definitions—Secretary's Supplemental Priority and Definitions on Career Pathways and Workforce Readiness

AGENCY: U.S. Department of Education.

ACTION: Proposed priority and definitions.

SUMMARY: The Secretary proposes one additional priority and related definitions for use in currently authorized discretionary grant programs or programs that may be authorized in the future. The Secretary may choose to use the entire priority for a grant program or a particular competition or use one or more of the priority's component parts. This priority and definitions augment the initial set of three Secretary's Supplemental Priorities on Evidence-Based Literacy, Educational Choice, and Returning Education to the States published as final priorities on September 9, 2025 (90 FR 43514), the Secretary's Supplemental Priority on Artificial Intelligence published as a proposed priority on July 21, 2025 (90 FR 34203), and the Secretary's Supplemental Priority on Promoting Patriotic Education published as a proposed priority on September 17, 2025 (90 FR 44788). In addition, this priority complements the additional Secretary's Supplemental Priority and Definitions on Meaningful Learning Opportunities published as a proposed priority elsewhere in this issue of the Federal Register.

DATES: We must receive your comments on or before October 27, 2025.

ADDRESSES: Comments must be submitted via the Federal eRulemaking Portal at Regulations.gov. See the SUPPLEMENTARY INFORMATION section for more details.

FOR FURTHER INFORMATION CONTACT: Zachary Rogers, U.S. Department of Education, 400 Maryland Avenue SW, Room 7W213, Washington, DC 20202-6450. Telephone: (202) 260-1144. Email: SSP@ed.gov.

If you are deaf, hard of hearing, or have a speech disability and wish to access telecommunications relay services, please dial 7-1-1.

SUPPLEMENTARY INFORMATION:

Invitation to Comment: We invite you to submit comments regarding the proposed priority and definitions. Comments must be submitted via the Federal eRulemaking Portal at Regulations.gov. However, if you require an accommodation or cannot otherwise submit your comments via Regulations.gov, please contact the program contact person listed under FOR FURTHER INFORMATION CONTACT. The Department will not accept comments by fax or by email, or comments submitted after the comment period closes. To ensure that the Department does not receive duplicate copies, please submit your comments only once. Additionally, please include the Docket ID at the top of your comments.

Federal eRulemaking Portal: Go to www.Regulations.gov to submit your comments electronically. Information on using Regulations.gov, including instructions for accessing agency documents, submitting comments, and viewing the docket, is available on the site under “FAQ.” Also included on Regulations.gov is a commenter checklist that addresses how to submit effective comments.

In instances where individual submissions appear to be duplicates or near duplicates of comments prepared as part of a writing campaign, the Department may choose to post to Regulations.gov one representative sample comment along with the total comment count for that campaign. The Department will consider these comments along with all other comments received. In instances where individual submissions are bundled together (submitted as a single document or packaged together), the Department will post all of the substantive comments included in the submissions along with the total comment count for that document or package to Regulations.gov. Comments containing personal threats will not be posted to Regulations.gov and may be referred to the appropriate authorities.

During and after the comment period, you may inspect public comments about the proposed priority and definitions by accessing Regulations.gov. To inspect comments in person, please contact the person listed under FOR FURTHER INFORMATION CONTACT.

Privacy Note: The Department's policy is to generally make all comments received from members of the public available for public viewing in their entirety on the Federal eRulemaking Portal at Regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this document. If you want to schedule an appointment for this type of accommodation or auxiliary aid, please contact the person listed under FOR FURTHER INFORMATION CONTACT.

Program Authority: 20 U.S.C. 1221e-3, 3474, and 29 U.S.C. 3101.

Proposed Priority: This document contains one proposed priority.

Proposed Priority: Expanding Career Pathways and Workforce Readiness

Background: At the U.S. Department of Education, prioritizing access to demand-driven career pathways and workforce preparedness is essential for equipping students with the knowledge and skills necessary to thrive in a dynamic and evolving economy. Education should ensure learning pathways are designed to enable students to master competencies that are aligned with high-growth, high-wage, and high-demand careers. This goal is most effectively achieved by integrating career exploration, career readiness, technical education, and work-based learning opportunities into the K-12 general and special education setting. A modern education system must realize that its primary customers are students and their families, followed by the employers who will hire them. Moreover, it must prepare students not only for academic success, but also for active participation in sectors of the economy shaped by technological advancement, innovation, and industrial renewal.

For decades, the dominant “college for all” narrative has led to a narrow focus that often leaves students with degrees and debt but limited job prospects. With only half of bachelor's degree graduates working in fields that require a bachelor's degree,¹ there is a growing need to elevate competency-based pathways that are rigorous, respected, and responsive to real-world demands.

¹ Burning Glass Institute and Strada Institute for the Future of Work, Talent Disrupted: Underemployment, College Graduates, and the Way Forward, 2024 (https://static1.squarespace.com/static/6197797102be715f55c0e0a1/t/65d62ebce0cf8f07e3d6e006/1708535486302/Talent+Disrupted+02212024.pdf).

Existing federal funding in this area should therefore shift to ensuring that all students have access to a wide range of high-quality education pathways that meet the needs of a rapidly changing economy. By expanding the range of options so that a broader array of education providers can access existing funding in a manner that aligns outcomes with the demands of today's workforce, the government can foster both economic mobility for students and sustained competitiveness for the nation.

Proposed Priority: Projects or proposals designed to do one or more of the following:

(a) Support workforce development programs that are aligned with State priorities. This may include one or more of the following:

(i) Activities aligned to State and local workforce priorities.

(ii) Activities that support alignment of workforce activities across State agencies that support workforce development (e.g., education, higher education, workforce transformation, job and family services, vocational rehabilitation services including pre-employment transition services and transition services, etc.).

(iii) Activities that support States in identifying in-demand and high-value industry-recognized credentials and/or re-evaluating existing lists of credentials.

(iv) Providing support for the skilled trades.

(v) Developing industry-led sector partnerships.

(vi) Promoting the attainment by individuals of an in-demand and high-value industry-recognized postsecondary credential.

(vii) Providing work-based learning opportunities (e.g., internships, externships, pre-apprenticeships, and registered apprenticeships) for which a student receives wages, academic credit, or both.

(viii) Expanding the availability of pre-apprenticeships and registered apprenticeships, including through dual or concurrent enrollment (as defined in 20 U.S.C. 7801(15)), by doing one or more of the following:

(1) Supporting apprenticeship intermediaries.

(2) Creating pre-apprenticeships.

(3) Creating new registered apprenticeships to include apprenticeships for in-school and out-of-school youth.

(4) Providing technical assistance for states to create new registered apprenticeships to include apprenticeships for in-school and out-of-school youth.

(b) Provide career and/or college exploration and advising opportunities to promote greater awareness of the range of postsecondary educational and career options.

(c) Provide opportunities for students to use financial tools to compare the cost and benefits of the career options and educational pathways they are considering, including the long-term impact of taking out student loans on their financial security, including likely entry and mid-career earnings in fields selected by students as compared to entry and mid-career earnings in high wage, high growth, and high demand occupations in each of the career clusters.

(d) Support the development of talent marketplaces (including credential registries, skills-based job description generators, and learning and employment records) that connect employers, students, and jobseekers by converting job descriptions and learning assertions into discrete, industry-recognized competencies.

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Definitions

Background: The Secretary proposes the following definitions for use in any Department discretionary grant program in which the proposed priority is used.

Credential Registry, with respect to a component of a Talent Marketplace, means a digital repository and database, maintained by a State or State Workforce Agency, as defined at 29 U.S.C. 3225a(a)(8).

In-demand Industry Sector or Occupation, as defined in section 3(23) of the Workforce Innovation and Opportunity Act (WIOA), means (i) an industry sector that has a substantial current or potential impact (including through jobs that lead to economic self-sufficiency and opportunities for advancement) on the State, regional, or local economy, as appropriate, and that contributes to the growth or stability of other supporting businesses, or the growth of other industry sectors; or (ii) an occupation that currently has or is projected to have a number of positions (including positions that lead to economic self-sufficiency and opportunities for advancement) in an industry sector so as to have a significant impact on the State, regional, or local economy, as appropriate.

Learning and Employment Record - The term “Learning and Employment Record,” with respect to a Talent Marketplace, means a digital tool maintained by a State or State Workforce Agency, as defined at 29 U.S.C. 3225a(a)(8).

Recognized Postsecondary Credential means credential consisting of an industry-recognized certificate or certification, a certificate of completion of an apprenticeship, a license recognized by the State involved or Federal Government, or an associate or baccalaureate degree, as defined in section 3(53) of WIOA.

Skills-Based Job Description Generator—The term “Skills-Based Job Description Generator,” with respect to a Talent Marketplace, means a digital tool, maintained by a State or a State Workforce Agency, as defined at 29 U.S.C. 3225a(a)(8).

Talent marketplace means a digital, interconnected system of technologies maintained by a State or State Workforce Agency, as defined at 29 U.S.C. 3225a(a)(8), that

(a) is publicly available;

(b) includes an integrated:

(i) Learning and Employment Record;

(ii) Credential Registry; and

(iii) Skill-Based Job Description generator;

(c) utilizes artificial intelligence to enable students and jobseekers, employers, and education and training providers to transform, transcribe, and transact earned learning assertions, job descriptions, and degree and non-degree credentials into discrete competency statements; and

(d) may be curated into interoperable individual records of achievement and learning and employment recommendations

Work-based learning is used in accordance with 20 U.S.C. 2302(55), to mean sustained interactions with industry or community professionals in real workplace settings, to the extent practicable, or simulated environments at an educational institution that foster in-depth, firsthand engagement with the tasks required in a given career field, that are aligned to curriculum and instruction.

Final Priority and Definitions: The Department will announce the final priority and definitions in a document in the Federal Register. We will determine the final priority and definitions after considering responses to the proposed priority and definitions and other information available to the Department. This document does not preclude us from proposing additional priorities, requirements, or definitions, subject to meeting applicable rulemaking requirements.

Note: This document does not solicit applications. In any year in which we choose to use any of the final priority and definitions, we invite applications through a notice in the Federal Register.

Executive Orders 12866, 13563, and 14192

Regulatory Impact Analysis

This proposed regulatory action is not a significant regulatory action subject to review by the Office of Management and Budget under section 3(f) of Executive Order 12866. Since this regulatory action is not a significant regulatory action under section 3(f) of Executive Order 12866, it is not considered an “Executive Order 14192 regulatory action.”

We have also reviewed this proposed regulatory action under Executive Order 13563. We are issuing the proposed priority and definitions only on a reasoned determination that their benefits would justify their minimal costs. The Department believes that this regulatory action is consistent with the principles in Executive Order 13563.

We also have determined that this regulatory action would not unduly interfere with State, local, and Tribal governments in the exercise of their governmental functions.

In accordance with these Executive orders, the Department has assessed the potential costs and benefits, both quantitative and qualitative, of this regulatory action. The potential costs are those resulting from statutory requirements and those we have determined are necessary for administering the Department's programs and activities.

Discussion of Costs and Benefits: The proposed priority would impose no or minimal costs on entities that receive discretionary grant award funds from the Department. Additionally, the benefits of implementing the proposed priority outweigh any associated costs, to the extent these de minimis costs even exist, because the proposed priority would result in higher quality grant application submissions.

Application submission and participation in competitive grant programs that might use this proposed priority and definitions is voluntary. We believe, based on the Department's administrative experience, that entities preparing an application would not need to expend more resources than they otherwise would have in the absence of this proposed priority. Therefore, any potential costs to applicants would be de minimis. Moreover, because the costs of carrying out activities would be paid for with program funds, the costs of implementation would not be a burden for any eligible applicants that earn a grant award, including small entities. We invite the public to comment on this discussion of estimated costs and benefits. We are specifically interested in high quality comments supported with quantitative data.

Intergovernmental Review: This action is subject to Executive Order 12372 and the regulations in 34 CFR part 79. This document provides early notification of our specific plans and actions for this program.

Regulatory Flexibility Act Certification

This section considers the effects that the final regulations may have on small entities in the educational sector as required by the Regulatory Flexibility Act, 5 U.S.C. 601 et seq. The Secretary certifies that this proposed regulatory action would not have a substantial economic impact on a substantial number of small entities.

The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Paperwork Reduction Act

The proposed priority and definitions do not contain information collection requirements or affect any currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or another accessible format.

Electronic Access to This Document: The official version of this document is the document published in the Federal Register. You may access the official edition of the Federal Register and the Code of Federal Regulations at www.govinfo.gov. You may also access documents of the Department published in the Federal Register by using the article search feature at www.federalregister.gov.

Linda McMahon,
Secretary of Education.

[FR Doc. 2025-18639 Filed 9-24-25; 8:45 am]

BILLING CODE 4000-01-P